Memorandum of August 5, 2024

Delegation of Functions and Authorities Under Section 6(a)-(c) of the United States-Taiwan Initiative on 21st-Century Trade First Agreement Implementation Act

Memorandum for the United States Trade Representative

By the authority vested in me as President by the Constitution and the laws of the United States of America, including section 301 of title 3, United States Code, I hereby delegate to the United States Trade Representative the functions and authorities vested in the President by section 6(a)-(c) of the United States-Taiwan Initiative on 21st-Century Trade First Agreement Implementation Act (Public Law 118-13), including to make and submit the required certification to the Congress and to consult with, and submit the required report to, the appropriate congressional committees.

The delegation in this memorandum shall apply to any provisions of any future public laws that are the same or substantially the same as those provisions referenced in this memorandum.

You are authorized and directed to publish this memorandum in the Federal Register.

THE WHITE HOUSE,

Washington, August 5, 2024

[FR Doc. 2024-17783

Filed 8-7-24; 8:45 am]

Billing code 3290-F7-P